NATIONAL SCIENCE FOUNDATION

Proposal Review Panel for Social and Economic Sciences; Notice of Meeting

In accordance with the Federal Advisory Committee Act (Pub. L. 92-463 as amended), the National Science Foundation announces the following meeting:

Name: Site visit review of the Nanoscale Science and Engineering Center (NSEC) at Arizona State University by the Division Social and Economic Sciences (#10748).

Dates & Times:

May 2, 2012; 7 p.m.-9 p.m.

May 3, 2012: 7:45 a.m.-9:15 p.m.

May 4, 2012: 8 a.m.-3:30 p.m.

Place: Arizona State University, Tempe, AZ.

Type of Meeting: Part open.

Contact Person: Dr. Frederick Kronz, Program Director; Science, Technology and Society Program; Division of Social and Economic Sciences, Room 990, National Science Foundation, 4201 Wilson Boulevard, Arlington, VA 22230, Telephone (703) 292-7283.

Purpose of Meeting: To provide advice and recommendations concerning further support of the NSEC at the Arizona State University.

Agenda:

Wednesday, May 2, 2012

7 p.m.-9 p.m. Closed—Executive Session

Thursday, May 3, 2012

7:45 a.m.-4:30 p.m. Open—Review of the NSEC

4:15 p.m.-5:45 p.m. Closed—Executive Session

5:45 p.m.-9:15 p.m. Open—Poster Session; Dinner

Friday, May 4, 2012

8 a.m.-9 a.m. Closed—Executive session

9 a.m.-10:30 a.m. Open—Review of the NSEC

10:30 a.m.-3:30 p.m. Closed—Executive Session, Draft and Review Report

Reason for Late Notice: Scheduling complications and the necessity to proceed with the review.

Reason for Closing: The work being reviewed may include information of a proprietary or confidential nature, including technical information; financial data, such as salaries and personal information concerning individuals associated with the MRSEC. These matters are exempt under 5 U.S.C. 552 b(c), (4) and (6) of the Government in the Sunshine Act.

Dated: April 18, 2012.
Susanne Bolton,
Committee Management Officer.

[FR Doc. 2012-9694 Filed 4-20-12; 8:45 am]

BILLING CODE 7555-01-P